DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Project: SAMHSA/CMHS Initiative to Evaluate Mental Health Transformation: 9 State Incentive Grants—NEW

The Substance Abuse and Mental Health Services Administration (SAMHSA), Center for Mental Health Services (CMHS), has funded an Initiative to help grantees transform their mental health and related service systems. Mental Health Transformation State Incentive Grants (MHT SIG) awards were made to 9 States: Connecticut, Hawaii, Maryland, Missouri, New Mexico, Ohio, Oklahoma, Texas and Washington. Associated with this project is an OMB-required independent evaluation of the program.

With input from CMHS staff, MHT SIG State representatives and consumer and family member consultants, a set of data collection instruments has been identified or created for the cross-site evaluation project. The following survey instruments will be used: (1) A recovery measure for adults, (2) a resilience measure for youth, (3) a system measure on orientation towards recovery, (4) a leadership survey, (5) mental health provider interview guide, (6) GPRA data collection, and (7) consumer/family member focus group facilitation guide/interview guide. Grantees will be allowed to use recovery, resilience and system orientation instruments of their choice as long as it meets identified CMHS criteria. Discretionary grant NOMs questions which have already received OMB approval (No. 0930-0285) will be used along with the recovery and resilience instruments selected by the States. In addition, during site visits, one each of the following State staff will be interviewed using a uniquely developed discussion guide: MHT SIG Project Director; MHT SIG Transformation Working Group Chair; director or senior staff of the mental health, Medicaid, criminal/juvenile justice, education, employment, housing agencies. Phone interviews will also be conducted using uniquely developed discussion guides with Project Directors to determine the cost impact of the MHT SIG grant in their State.

GPRA data will be submitted annually by the grantees into a database hosted on a password-protected Web extranet site. The recovery, resilience and system recovery orientation data for non-impacted and impacted consumer groups will be collected by the grantees at two points: baseline and twelve months. During grant years 3 and 5, consumer/family member focus groups/interviews, leadership surveys, and State agency staff interviews will be done. During grant years 3 through 5, mental health provider interviews will be done.

The resulting data will help the cross site evaluation: (1) Determine the extent to which mental health systems have become recovery-oriented, (2) determine the extent to which transformation results in consumer recovery, (3) identify the factors contributing to successful transformation, (4) assist the MHT SIG program in satisfying GPRA requirements, (5) determine changes in client outcomes as measured by NOMs, and (6) demonstrate the cost efficiency of the MHT SIG program. The estimated annual response burden to collect this information is as follows:

Estimate of Annual Response Burden
Instrument | Number of states | Number of respondents/state | Total number of respondents | Responses/ respondent | Average burden/ response (hours) | Annual burden (hours)
YEAR 1 (2008):
Recovery (non-impacted) | 7 | 75 | 525 | 1 | 0.5 | 262.5
Resilience (non-impacted) | 7 | 75 | 525 | 1 | 0.6 | 315
Leadership survey | 7 | 15 | 105 | 1 | 0.33 | 34.7
Provider interviews | 7 | 26 | 182 | 1 | 0.5 | 91
GPRA measures | 7 | 1 | 7 | 1 | 12 | 84
Consumer/family involvement | 7 | 15 | 105 | 1 | 2 | 210
State agency staff interviews | 7 | 8 | 56 | 1 | 1.13 | 63.3
Cost impact | 7 | 1 | 7 | 1 | 1.5 | 10.5
Subtotal (year 1) |  |  | 1512 |  |  | 1070.9
YEAR 2 (2009):
Recovery (impacted) | 7 | 75 | 525 | 1 | 0.5 | 262.5
Recovery (non-impacted) | 2 | 75 | 150 | 1 | 0.5 | 75
Recovery & system recovery orientation (non-impacted) | 7 | 75 | 525 | 1 | 1 | 525
Resilience (impacted) | 7 | 75 | 525 | 1 | 0.6 | 315
Resilience (non-impacted) | 9 | 75 | 675 | 1 | 0.6 | 405
Leadership survey | 2 | 15 | 30 | 1 | 0.33 | 9.9
Provider interviews | 9 | 26 | 234 | 1 | 0.5 | 117
GPRA Measures | 9 | 1 | 9 | 1 | 12 | 108
Consumer/family involvement | 2 | 15 | 30 | 1 | 2 | 60
State agency staff interviews | 2 | 8 | 16 | 1 | 1.13 | 18.1
Cost impact | 2 | 1 | 2 | 1 | 1.5 | 3
Subtotal (year 2) |  |  | 2721 |  |  | 1898.5
YEAR 3 (2010):
Recovery (impacted) | 2 | 75 | 150 | 1 | 0.5 | 75
Recovery & system recovery orientation (impacted) | 7 | 75 | 525 | 1 | 1 | 525
Recovery & system recovery orientation (non-impacted) | 2 | 75 | 150 | 1 | 1 | 150
Resilience (impacted) | 9 | 75 | 675 | 1 | 0.6 | 405
Resilience (non-impacted) | 2 | 75 | 150 | 1 | 0.6 | 90
Leadership survey | 7 | 15 | 105 | 1 | 0.33 | 34.7
Provider interviews | 9 | 26 | 234 | 1 | 0.5 | 117
GPRA measures | 9 | 1 | 9 | 1 | 12 | 108
Consumer/family involvement | 7 | 15 | 105 | 1 | 2 | 210
State agency staff interviews | 7 | 8 | 56 | 1 | 1.13 | 63.3
Cost impact | 7 | 1 | 7 | 1 | 1.5 | 10.5
Subtotal (year 3) |  |  | 2166 |  |  | 1788.4
AVERAGE |  |  | 2133 |  |  | 1586

Written comments and recommendations concerning the proposed information collection should be sent by January 18, 2008 to: SAMHSA Desk Officer, Human Resources and Housing Branch, Office of Management and Budget, New Executive Office Building, Room 10235, Washington, DC 20503; due to potential delays in OMB's receipt and processing of mail sent through the U.S. Postal Service, respondents are encouraged to submit comments by fax to: 202-395-6974.

Dated: December 12, 2007.
Elaine Parry,
Acting Director, Office of Program Services.

[FR Doc. E7-24574 Filed 12-18-07; 8:45 am]

BILLING CODE 4162-20-P